DEPARTMENT OF THE INTERIOR

Fish and Wildlife Service

[Docket No. FWS-HQ-IA-2021-0008; FXIA16710900000-FF09A10000-212]

Conference of the Parties to the Convention on International Trade in Endangered Species of Wild Fauna and Flora (CITES); Nineteenth Regular Meeting: Taxa Being Considered for Amendments to the CITES Appendices

AGENCY: Fish and Wildlife Service, Interior.

ACTION: Notice.

SUMMARY: The United States, as a Party to the Convention on International Trade in Endangered Species of Wild Fauna and Flora (CITES), may propose amendments to the CITES Appendices for consideration at meetings of the Conference of the Parties. The nineteenth regular meeting of the Conference of the Parties to CITES (CoP19) is scheduled to be held in Panama City, Panama, November 14-25, 2022. With this notice, we respond to recommendations received from the public concerning proposed amendments to the CITES Appendices (species proposals) that the United States might submit for consideration at CoP19; invite your comments and information on these proposals; and provide information on how U.S. nongovernmental organizations can attend CoP19 as observers.

DATES:

Meeting: The meeting is scheduled to be held in Panama City, Panama, November 14-25, 2022.

Submitting Information and Comments: We will consider written information and comments we receive by May 26, 2022.

ADDRESSES:

Further information: We have posted an extended table version of this notice on our website, at https://www.fws.gov/program/cites/federal-register-notices, with text describing in more detail certain proposed actions and explaining the rationale for the tentative U.S. position on these possible proposals. We also describe in that table the information that we are seeking for proposals where the United States is undecided on submission. Copies of the extended table version of the notice are also available from the Division of Scientific Authority (see FOR FURTHER INFORMATION CONTACT) or at https://www.regulations.gov at Docket No. FWS-HQ-IA-2021-0008.

Comments: You may submit comments pertaining to species proposals for consideration at CoP19 by one of the following methods:

• Internet: https://www.regulations.gov. Search for and submit comments on Docket No. FWS-HQ-IA-2021-0008.

• Hard copy: Submit by U.S. mail to Public Comments Processing; Attn: Docket No. FWS-HQ-IA-2021-0008; U.S. Fish and Wildlife Service; MS: PRB (JAO/3W); 5275 Leesburg Pike, Falls Church, VA 22041-3803.

FOR FURTHER INFORMATION CONTACT: For information pertaining to species proposals, contact Rosemarie Gnam, Chief, Division of Scientific Authority, at 703-358-1708 (phone); 703-358-2276 (fax); or scientificauthority@fws.gov (email). Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The United States (or we), as a Party to the Convention on International Trade in Endangered Species of Wild Fauna and Flora (CITES, or the Convention), may propose amendments to the CITES Appendices for consideration at meetings of the Conference of the Parties. The nineteenth regular meeting of the Conference of the Parties to CITES (CoP19) is scheduled to be held in Panama City, Panama, November 14-25, 2022. With this notice, we describe proposed amendments to the CITES Appendices (species proposals) that the United States might submit for consideration at CoP19; invite your comments and information on these proposals; and provide information on how U.S. nongovernmental organizations can attend CoP19 as observers.

Background

CITES is an international treaty designed to control and regulate international trade in certain animal and plant species that are affected by trade and are now, or potentially may become, threatened with extinction. These species are included in the Appendices to CITES, which are available on the CITES Secretariat's website at https://www.cites.org. Currently there are 184 Parties to CITES—183 countries, including the United States, and one regional economic integration organization, the European Union. The Convention calls for regular biennial meetings of the Conference of the Parties, unless the Conference decides otherwise. At these meetings, the Parties review the implementation of CITES, make provisions enabling the CITES Secretariat in Switzerland to carry out its functions, consider amendments to the species included in Appendices I and II, consider reports presented by the Secretariat, and make recommendations for the improved effectiveness of CITES. Any country that is a Party to CITES may propose amendments to Appendices I and II, as well as resolutions, decisions, and agenda items for consideration by all the Parties. Our regulations governing this public process are found in title 50 of the Code of Federal Regulations at 50 CFR 23.87.

This is our third notice in a series of Federal Register notices that, together with an announced public meeting (time and place to be announced), provide you with an opportunity to participate in the development of the U.S. submissions and negotiating positions for the nineteenth regular meeting of the Conference of the Parties to CITES (CoP19), which is scheduled to be held in Panama City, Panama, November 14-25, 2022. We published our first CoP19-related Federal Register notice on March 2, 2021 (86 FR 12199). That notice requested information and recommendations on animal and plant species proposals and on proposed resolutions, decisions, and agenda items for the United States to consider submitting for consideration at CoP19; the notice also provided preliminary information on how to request approved observer status for nongovernmental organizations that wish to attend the meeting. We published our second CoP19-related Federal Register notice on March 7, 2022 (87 FR 12719); that notice described proposed resolutions, decisions, and agenda items that the United States might submit for consideration at CoP19. Comments received on those two notices may be viewed at https://www.regulations.gov in Docket No. FWS-HQ-IA-2021-0008.

Recommendations for Species Proposals for the United States to Consider Submitting for CoP19

In response to our March 2021 notice, we received 31 comments with recommendations from 3 individuals and 51 organizations for possible proposals involving more than 600 animal taxa and almost 200 plant taxa for amendments to the CITES Appendices. These commenters include organizations such as the Animal Welfare Institute (AWI), American Herbal Products Association; Center for Biological Diversity; Costa Farms LLC; Forest Based Solutions; Ginseng Board of Wisconsin; Humane Society International; International Wood Products Association; International Union for Conservation of Nature, Species Survival Commission, Specialist Groups; League of American Orchestras; Safari Club International; Safari Club International Foundation; Species Survival Network; Wildlife Conservation Society; World Animal Protection; and World Wildlife Fund. Additionally, the United States may submit three animal species proposals that previously resulted from the Periodic Review Process (Resolution Conf. 14.8 (Rev. CoP17)) by the Animals Committee, and where that Committee recommended that the United States, as a range country for the species being reviewed, bring forward a proposal to amend the Appendices.

We have undertaken initial evaluations of the available trade and biological information on many of these taxa. Based on the information available, we made provisional evaluations of whether to proceed with the development of proposals for species to be included in, removed from, or transferred between the CITES Appendices. We made these evaluations by considering the best information available on the species; the presence, absence, and effectiveness of other mechanisms that may preclude the need for species' inclusion in the CITES Appendices (e.g., range country actions or other international agreements); and availability of resources. We have also considered the following factors, consistent with the U.S. approach for CoP19 discussed in our March 2, 2021, Federal Register notice (86 FR 12199):

(1) Does the proposed action address a serious wildlife or plant trade issue that the United States is experiencing as a range country for species in trade?

(2) Does the proposed action address a serious wildlife or plant trade issue for species not native to the United States?

(3) Does the proposed action provide additional conservation benefit for a species already covered by another international agreement?

Based on our initial evaluations, we have assigned each taxon to one of three categories, which reflects the likelihood of our submitting a proposal. In sections A, B, and C, below, we have listed the current status of each species proposal recommended by the public, as well as species proposals we have been developing on our own from the Periodic Review Process. Please note that we have provided here only a list of taxa and the proposed action of likely, unlikely, or undecided on whether to submit a species proposal for consideration at CoP19. We have posted an extended table version of this notice on our website, at https://www.fws.gov/program/cites/federal-register-notices, with text describing in more detail certain proposed actions and explaining the rationale for the tentative U.S. position on these possible proposals. We also describe in this table the information that we are seeking for proposals where the United States is undecided on submission. Copies of the extended table version of the notice are also available from the Division of Scientific Authority at the above address or at https://www.regulations.gov at Docket No. FWS-HQ-IA-2021-0008. We note that a number of commenters submitted suggestions for how to approach possible amendment proposals submitted for a variety of taxa. We do not respond specifically to these comments here, and we refer again to the criteria in Resolution Conf. 9.24 (Rev. CoP17) and our regulations (50 CFR 23.89).

We welcome your comments, especially if you are able to provide any additional biological or trade information on these species.

A. What species proposals will the United States likely submit for consideration at CoP19? *

* Indicates species that occur in the United States of America or its territories.

The taxa in this section have been undergoing review through the periodic review of the CITES Appendices by the Animals Committee (AC), two at AC31 and a third at AC27, in accordance with Resolution Conf. 14.8 (Rev. CoP17). This is a regular process under CITES to evaluate whether listings of taxa in CITES Appendices I and II continue to be appropriate, based on current biological and trade information.

Birds

1. * Short-tailed albatross (Phoebastria albatrus)—Transfer from Appendix I to Appendix II

2. * Aleutian cackling goose (Branta hutchinsii leucopareia)—Transfer from Appendix I to Appendix II

Reptiles

3. * Puerto Rico boa (Epicrates inornatus)—Transfer from Appendix I to Appendix II

B. On what species proposals is the United States undecided, pending additional information and consultations? *

The United States is still undecided on whether to submit CoP19 proposals for the following taxa. In most cases, we have not completed our consultations with relevant range countries. In other cases, in the immediate future we expect meetings to occur at which participants will generate important recommendations, trade analyses, or biological information on the taxon in question that may be useful to our final decisionmaking.

Plants

1. * American ginseng (Panax quinquefolius)—Remove sliced American ginseng roots from the provisions of the Convention and revise annotation as follows: “Whole and sliced roots and parts of roots, excluding manufactured parts or derivatives, such as slices, powders, pills, extracts, tonics, teas and confectionery.”

2. African mahogany (Afzelia africana) Fabaceae (legume) family—Add to Appendix I or II

3. Dipteryx spp. [12 species], Fabaceae (legume) family—Add to Appendix I or II (co-sponsor/support proposals) [12 species, includes 1 species that would transfer from Appendix III (Nicaragua and Costa Rica)]

4. Ipe (Handroanthus spp. [~30+ species]) Bignoniaceae (bignonia) family—Add to Appendix I or II (co-sponsor/support) [~30/35 species]

5. Trumpet trees (Tabebuia spp. [~73 species])—Add to Appendix I or II (co-sponsor/support) [~73/74 species]

6. Roseodendron spp. [2-3 species]—Add to Appendix I or II (co-sponsor/support) [2-3 species]

7. African mahogany (Khaya spp. [5 species])—Add to Appendix I or II (co-sponsor/support) [5 species]

8. Pterocarpus spp. [~70 species, but recommendation limited to African species/populations]—Add/transfer to Appendix I or add to Appendix II (co-sponsor/support) [<70 species; P. erinaceus and P. tinctorius are currently listed on Appendix II]

9. * Rhodilia spp. (58 species)—Add the genus to Appendix II with annotation #2.

Mammals

10. * Reindeer/caribou (Rangifer tarandus)—Add to Appendix I

Birds

11. Straw-headed bulbul (Pycnonotus zeylanicus)—Transfer from Appendix I to Appendix II

Reptiles

12. Freshwater turtles [~348 species, ~185 not listed in CITES or listed as Appendix III]—List all species in at least Appendix II [~185 species]

13. Order Testudines [~348 species, ~185 not listed in CITES or listed as Appendix III]—Include all species not currently listed in Appendix II [~185 species]; transfer threatened or endangered species from Appendix II to Appendix I

14. * Western pond turtle (Actinemys marmorata)—Include all species not currently listed in Appendix II

15. * Southwestern pond turtle (Actinemys pallida)—Include all species not currently listed in Appendix II

16. * Painted turtle (Chrysemys picta) (including C. p. dorsalis)—Include all species not currently listed in Appendix II

17. * Chicken turtle (Deirochelys reticularia)—Include all species not currently listed in Appendix II

18. * Alabama redbelly turtle (Pseudemys alabamensis)—Include all species not currently listed in Appendix II

19. * Eastern river cooter (Pseudemys concinna)—Include all species not currently listed in Appendix II

20. * Florida cooter (Pseudemys floridana)—Include all species not currently listed in Appendix II

21. * Rio Grande cooter (Pseudemys gorzugi)—Include all species not currently listed in Appendix II

22. * Florida redbelly turtle (Pseudemys nelson)—Include all species not currently listed in Appendix II

23. * Peninsula cooter (Pseudemys peninsularis)—Include all species not currently listed in Appendix II

24. * Northern red-bellied turtle (Pseudemys rubriventris)—Include all species not currently listed in Appendix II

25. * Texas river cooter (Pseudemys texana)—Include all species not currently listed in Appendix II

26. * Big Bend slider (Trachemys gaigeae)—Include all species not currently listed in Appendix II

27. * Razorback musk turtle (Sternotherus carinatus)—Include all species not currently listed in Appendix II

28. * Flattened musk turtle (Sternotherus depressus)—Include all species not currently listed in Appendix II

29. * Intermediate musk turtle (Sternotherus intermedius)—Include all species not currently listed in Appendix II

30. * Loggerhead musk turtle (Sternotherus minor)—Include all species not currently listed in Appendix II

31. * Stinkpot turtle (Sternotherus odoratus)—Include all species not currently listed in Appendix II

32. * Common snapping turtle (Chelydra serpentina)—Include all species not currently listed in Appendix II

33. * Alligator snapping turtle (Macrochelys temminckii)—Include all species not currently listed in Appendix II

34. * Cagle's map turtle (Graptemys caglei)—Include all species not currently listed in Appendix II

35. * Escambia map turtle (Graptemys ernsti)—Include all species not currently listed in Appendix II

36. * Northern map turtle (Graptemys geographica)—Include all species not currently listed in Appendix II

37. * Black-knobbed map turtle (Graptemys nigrinoda)—Include all species not currently listed in Appendix II

38. * Ringed map turtle (Graptemys oculifera)—Include all species not currently listed in Appendix II

39. * Ouachita map turtle (Graptemys ouachitensis)—Include all species not currently listed in Appendix II

40. * False map turtle (Graptemys pseudogeographica)—Include all species not currently listed in Appendix II

41. * Alabama map turtle (Graptemys pulchra)—Include all species not currently listed in Appendix II

42. * Texas map turtle (Graptemys versa)—Include all species not currently listed in Appendix II

43. * Florida softshell turtle (Apalone ferox)—Include all species not currently listed in Appendix II

44. * Smooth softshell turtle (Apalone mutica)—Include all species not currently listed in Appendix II

45. * Spiny softshell turtle (Apalone spinifera)—Include all species not currently listed in Appendix II

46. * Suwannee alligator snapping turtle (Macrochelys suwanniensis)—Include all species not currently listed in Appendix II

47. * Sabine map turtle (Graptemys sabinensis)—Include all species not currently listed in Appendix II

48. * Barbour's map turtle (Graptemys barbouri)—Transfer from Appendix III (United States) to Appendix I

49. * Yellow-blotched sawback (Graptemys flavimaculata)—Transfer from Appendix III (United States) to Appendix I

50. * Pascagoula map turtle (Graptemys gibbonsi)—Transfer from Appendix III (United States) to Appendix I

51. * Pearl River map turtle (Graptemys pearlensis)—Transfer from Appendix III (United States) to Appendix I

52. Indian narrow-headed softshell turtle (Chitra indica)—Transfer from Appendix III (United States) to Appendix I

53. Mud turtles (Kinosternon spp. [~20 species])—Add to Appendix I or II [~20 species]

54. * Arizona mud turtle (Kinosternon arizonense)—Add to Appendix II

55. * Striped mud turtle (Kinosternon baurii)—Add to Appendix II

56. * Yellow mud turtle (Kinosternon flavescens)—Add to Appendix II

57. * Rough-footed mud turtle (Kinosternon hirtipes)—Add to Appendix II

58. * Sonoran mud turtle (Kinosternon sonoriense)—Add to Appendix II

59. * Eastern mud turtle (Kinosternon subrubrum)—Add to Appendix II

60. * Desert horned lizard (Phrynosoma platyrhinos)—Add to Appendix II

61. * Timber rattlesnake (Crotalus horridus)—Add to Appendix II

Amphibians

62. Harlequin frogs, stubfoot toads (Atelopus spp. ~94+ species; 1 species already included in CITES Appendix I: Atelopus zetek)—Add to Appendix I

63. Pebas stubfoot toad (Atelopus spumarius)—Add to Appendix I

Sharks & Rays

64. * Family Sphyrnidae [9 species, 6 species not currently included in CITES]—S. media, S. tudes, S. corona, S. gilberti, S. tiburo and Eusphyra blochii—Add all species not currently included in Appendix II [6 species]

Bony Fishes

65. Banggai cardinalfish (Pterapogon kauderni)—Add to Appendix II

Invertebrates

Corals

66. * Corallium spp. [31 species] and Family Corallidae [>31 species]—Add to Appendix II (Add to Appendix I [AWI]) [3 species]

Sea Cucumbers

67. * Redfish sea cucumbers (Thelenota spp. [3 species])—Add to Appendix II (Add to Appendix I [AWI]) [3 species]

68. Brown sea cucumber (Isostichopus fuscus)—Transfer from Appendix III (Ecuador) to Appendix I

69. * Chocolate chip sea cucumber (Isostichopus badionotus)—Add to Appendix II

70. * Herrmann's sea cucumber (Stichopus herrmanni)—Add to Appendix II

71. * Surf redfish (Actinopyga mauritiana)—Add to Appendix II

72. Additional sea cucumbers (focus on those in international trade [~70 species] that attract high prices, are experiencing local declines or extirpation, and are readily identifiable)—Add to Appendix II

C. For which species is the United States unlikely to submit proposals for consideration at CoP19, unless we receive significant additional information? *

* Indicates species that occur in the United States of America or its territories.

The United States does not intend to submit proposals for the following taxa unless we receive significant additional information indicating that a proposal is warranted.

Fungus

73. * Eburiko (Fomitopsis officinalis)—Add to Appendix I

Plants

74. * American ginseng (Panax quinquefolius)—Amend Appendix II listing to include the annotation: “Specimens marked and identified as artificially propagated Panax quinquefolius grown under artificial shade are not subject to the provisions of the Convention.”

75. 7 Aloe spp., Family Liliaceae—Annotate to exclude more artificially propagated specimens

76. * Alakai Swamp pritchardia (Pritchardia minor) Arecaceae (palm) family—Add to Appendix I

77. * Flynn's loulu (Pritchardia flynnii) Arecaceae (palm) family—Add to Appendix I

78. * California lady's slipper (Cypripedium californicum) Orchidaceae (orchid) family—Transfer from Appendix II to Appendix I

79. * Mountain lady's slipper (Cypripedium montanum) Orchidaceae (orchid) family—Transfer from Appendix II to Appendix I

80. * Sparrow's-egg lady's slipper (Cypripedium passerinum) Orchidaceae (orchid) family—Transfer from Appendix II to Appendix I

81. * Texas crested coralroot (Hexalectris warnockii) Orchidaceae (orchid) family—Transfer from Appendix II to Appendix I

82. * Triphora yucatanensis Orchidaceae (orchid) family—Transfer from Appendix II to Appendix I

83. * Two-keeled hooded orchid (Galeandra bicarinata) Orchidaceae (orchid) family—Transfer from Appendix II to Appendix I

84. * Green ash (Fraxinus pennsylvanica) Oleaceae (olive) family—Add to Appendix I

85. * Murray plum (Prunus murrayana) Roseaceae (rose) family—Add to Appendix I

86. * Rockland morning glory (Ipomoea tenuissima) Convolvulaceae (bindweed) family—Add to Appendix I

87. * Walker's manioc (Manihot walkerae) Euphorbiaceae family—Add to Appendix I

88. * Butternut (Juglans cinerea) Juglandaceae (walnut) family—Add to Appendix I

89. * White ash (Fraxinus americana) Oleaceae (olive) family—Add to Appendix I

90. * Lanai sandalwood (Santalum freycinetianum) Santalaceae (sandalwood) family—Add to Appendix I

91. * Coast redwood (Sequoia sempervirens) Cupressaceae (redwood) family—Add to Appendix I

92. Family Cactaceae [The request was aimed at the cactus family in general, mentioning 6 species as examples]—Annotate to exclude more artificially propagated specimens

93. Euphorbia spp. [The request was aimed at the genus, mentioning one species (Euphorbia lactea) as an example]—Annotate to exclude more artificially propagated specimens

Animals—General

94. All species that are IUCN-assessed as critically endangered, endangered, and qualifying vulnerable species for which the United States is a range state or is a significant importer, and which are or may be affected by trade—Add to Appendix I or Appendix II (vulnerable qualifying species for the latter)

95. All species that could contribute to the spread of zoonotic disease—Ban all international trade

Mammals

96. * Hooded seal (Cystophora cristata)—Add to Appendix I

97. * Sea otter (Enhydra lutris)—Transfer from Appendix II to Appendix I (one subspecies, Enhydra lutris nereis, is listed in Appendix I)

98. * Walrus (Odobenus rosmarus)—Transfer from Appendix III (Canada) to Appendix I

99. * Polar bear (Ursus maritimus)—Transfer from Appendix II to Appendix I

100. Bighorn sheep (Ovis canadensis)—Mexico population—Remove Mexico's population from Appendix II

101. Malayan porcupine (Hystrix brachyura)—Add to Appendix II

102. Hippopotamus (Hippopotamus amphibius)—Transfer from Appendix II to Appendix I

103. African lion (Panthera leo)—Amend current annotated listing to adopt a zero quota for bones, bone pieces, bone products, claws, skeletons, skulls, and teeth traded for commercial purposes, whether from wild or captive-bred lions

104. Giraffe (Giraffa camelopardalis subsp.): Kordofan giraffe (Giraffa camelopardalis antiquorum), Nubian giraffe (G. c. camelopardalis), West African giraffe (G. c. peralta), Reticulated giraffe (G. c. reticulata), Rothschild's giraffe (G. c. rothschildi), Thornicroft's giraffe (G. c. thornicrofti)—Transfer from Appendix II to Appendix I

105. African elephants (Loxodonta africana)—Transfer populations in Botswana, Namibia, South Africa, and Zimbabwe from Appendix II to Appendix I

106. Rhinocerotidae—Revisit current international ban on rhinoceros horn

107. Old World monkeys (Genera: Cercopithecus; Colobus; Lophocebus; Miopithecus)—9 species—Transfer from Appendix II to I

Birds

108. * Atlantic puffin (Fratercula arctica)—Add to Appendix I

109. * Black-legged kittiwake (Rissa tridactyla)—Add to Appendix I

110. * Chinese egret (Egretta eulophotes)—Add to Appendix I

111. * Common pochard (Aythya ferina)—Add to Appendix I

112. * Evening grosbeak (Hesperiphona vespertina)—Add to Appendix I

113. * Florida scrub-jay (Aphelocoma coerulescens)—Add to Appendix I

114. * Hawaiian duck (Anas wyvilliana)—Add to Appendix I

115. * Java sparrow (Lonchura oryzivora)—Transfer from Appendix II to Appendix I

116. * Iiwi (Drepanis coccinea)—Add to Appendix I

117. * Long-tailed duck (Clangula hyemalis)—Add to Appendix I

118. * Omao (Myadestes obscurus)—Add to Appendix I

119. * Snowy owl (Nyctea scandiaca, synonym Bubo scandiacus)—Transfer from Appendix II to Appendix I

120. * Steller's eider (Polysticta stelleri)—Add to Appendix I

121. * Yellow-billed magpie (Pica nutalli)—Add to Appendix I

122. Greater green leafbird (Chloropsis sonnerati)—Add to Appendix II

123. Black-throated laughingthrush (Garrulax (Ianthocincla) chinensis)—Add to Appendix II

124. Collared laughingthrush (Trochalopteron yersini)—Add to Appendix II

125. Magpie-robins and shamas Copsychus spp. [7 species]—Add to Appendix II [7 species]

126. Passerine songbirds identified by Parties as species of conservation concern that are subject to unsustainable trade—Support proposals to add to Appendix II or Appendix I depending on conservation status

127. * All Neotropical seed-finches and seedeaters (Sporophila spp., Family Thraupidae [~43 species])—Add to Appendix II [~43 species]

128. * White-collared seed eater (Sporophila morelleti)—Add to Appendix II

Reptiles

129. * Wood turtle (Glyptemys insculpta)—Transfer from Appendix II to Appendix I

130. * Spotted turtle (Clemmys guttata)—Transfer from Appendix II to Appendix I

131. * Blanding's turtle (Emydoidea blandingii)—Transfer from Appendix II to Appendix I

132. * Diamondback terrapin (Malaclemys terrapin)—Transfer from Appendix II to Appendix I

133. * Wattle-necked softshell turtle (Palea steindachneri)—Transfer from Appendix II to Appendix I

134. * Red-eared slider (Trachemys scripta)—Transfer from Appendix II to Appendix I

135. Mud turtles (Kinosternon spp. [~20 species of which 6 occur in the United States] (The remainder include K. acutum, K. alamosae, K. angustipons, K. chimalhuaca, K. cora, K. creaseri, K. dunni, K. durangoense, K. herrerai, K. integrum, K. leucostomum, K. leucostomum, K. oaxacae, K. scorpioides, K. vogti, and K. sonoriense longifemorale)—Add to Appendix I or II [~20 species]

136. Horned lizards (Phrynosoma spp. [21 species—18 to be added to CITES])—Add to Appendix I or II [18 species]

137. Masked water snakes, puff-faced water snakes (Homalopsis spp. [5 species])—Add to Appendix II [5 species]

138. Rattlesnakes (Crotalus spp. [30 species])—Add to Appendix II [30 species]

Amphibians

139. * Pigeon Mountain salamander (Plethodon petraeus)—Add to Appendix I

140. Laos warty newt (Laotriton laoensis)—Add to Appendix I

141. Bug-eyed frogs, mossy frogs (Theloderma spp.])—Add to Appendix II [~28 species]

Sharks & Rays

142. * Scalloped hammerhead (Sphyrna lewini)—Transfer from Appendix II to Appendix I

143. * Great hammerhead (Sphyrna mokarran)—Transfer from Appendix II to Appendix I

144. * Smooth hammerhead (Sphyrna zygaena)—Transfer from Appendix II to Appendix I

145. Additional shark species [ultimate goal: All sharks ~500+ species]—Add to Appendix II/Support proposals to add to Appendix II

146. * Oceanic whitetip shark (Carcharhinus longimanus)—Transfer from Appendix II to Appendix I

147. * Dusky shark (Carcharhinus obscurus)—Add to Appendix I

148. * Spinner shark (Carcharhinus brevipinna)—Add to Appendix II

149. * Silky shark (Carcharhinus falciformis)—Transfer from Appendix II to Appendix I (AWI requests to add to Appendix II, but it's already on Appendix II)

150. * Night shark (Carcharhinus signatus)—Add to Appendix I

151. * Sandbar shark (Carcharhinus plumbeus)—Add to Appendix II

152. * Basking shark (Cetorhinus maximus)—Transfer from Appendix II to Appendix I

153. * Longfin mako (Isurus paucus)—Transfer from Appendix II to Appendix I

154. * Shortfin mako (Isurus oxyrinchus)—Transfer from Appendix II to Appendix I

155. * Whale shark (Rhincodon typus)—Transfer from Appendix II to Appendix I

156. * Common thresher (Alopias vulpinus)—Transfer from Appendix II to Appendix I

157. * White shark (Carcharodon carcharias)—Transfer from Appendix II to Appendix I

158. * Kitefin shark (Dalatias licha)—Add to Appendix I or II

159. * Tope (Galeorhinus galeus)—Add to Appendix I

160. * Porbeagle (Lamna nasu)—Transfer from Appendix II to Appendix I

161. * Spiny dogfish (Squalus acanthias)—Add to Appendix I or II

162. * Atlantic nurse shark (Ginglymostoma cirratum)—Add to Appendix II

163. * Gulper shark (Centrophorus granulosus)—Add to Appendix I

164. * Mosaic gulper shark (Centrophorus tessellatus)—Add to Appendix I

165. * Pacific sharpnose shark (Rhizoprionodon longurio)—Add to Appendix II

166. * Atlantic devilray (Mobula hypostoma)—Transfer from Appendix II to Appendix I

167. * Sicklefin devilray (Mobula tarapacana)—Transfer from Appendix II to Appendix I

168. * Giant manta ray (Manta birostris, synonym Mobula birostris)—Transfer from Appendix II to Appendix I

169. * Spotted eagle ray (Aetobatus ocellatus)—Add to Appendix I

170. * Whitespotted eagle ray (Aetobatus narinari)—Add to Appendix II

171. * Bullnose eagle ray (Myliobatis freminvillii)—Add to Appendix II

172. * American cownose ray (Rhinoptera bonasus)—Add to Appendix II

173. * Spiny butterfly ray (Gymnura altavela)—Add to Appendix II

174. * Winter skate (Leucoraja ocellata)—Add to Appendix I

175. * Thorny skate (Amblyraja radiata)—Add to Appendix I

Bony Fishes

176. * American eel (Anguilla rostrata)—Add to Appendix II

177. * Atlantic bluefin tuna (Thunnus thynnus)—Add to Appendix I

178. * Pacific bluefin tuna (Thunnus orientalis)—Add to Appendix I

179. * Bigeye tuna (Thunnus obesus)—Add to Appendix I

180. * Brown-marbled grouper (Epinephelus fuscoguttatus)—Add to Appendix I

181. * Camouflage grouper (Epinephelus polyphekadion)—Add to Appendix I

182. * Nassau grouper (Epinephelus striatus; global and Gulf of Mexico)—Add to Appendix I

183. * Red grouper (Epinephelus morio)—Add to Appendix I or II

184. * Black grouper (Mycteroperca bonaci)—Add to Appendix I

185. * Yellow-fin grouper [Gulf of Mexico] (Mycteroperca venenosa)—Add to Appendix I

186. * Yellowmouth grouper (Mycteroperca interstitialis)—Add to Appendix I

187. * Bluefish (Pomatomus saltatrix)—Add to Appendix I

188. * Blue marlin (Makaira nigricans)—Add to Appendix I

189. * California sheephead (Semicossyphus pulcher)—Add to Appendix I

190. * Carolina pygmy sunfish (Elassoma boehlkei)—Add to Appendix I

191. Cubera snapper (Lutjanus cyanopterus)—Add to Appendix I

192. * Red snapper (Lutjanus campechanus)—Add to Appendix I

193. * Golden tilefish (Lopholatilus chamaeleonticeps)—Add to Appendix I

194. * Hogfish (Lachnolaimus maximus)—Add to Appendix I

195. * Humphead wrasse (Cheilinus undulatus)—Add to Appendix I

196. Maya hamlet (Hypoplectrus maya)—Add to Appendix I

197. * Mexican blindcat (Prietella phreatophila)—Add to Appendix I

198. * Roundnose grenadier (Coryphaenoides rupestris)—Add to Appendix I

199. * Squaretail coralgrouper (Plectropomus areolatus)—Add to Appendix I

200. * Tarpon (Megalops atlanticus)—Add to Appendix I

201. * Vermilion snapper (Rhomboplites aurorubens)—Add to Appendix I

202. * Peppermint goby (Coryphopterus lipernes)—Add to Appendix I

203. * Glass goby (Coryphopterus hyalinus)—Add to Appendix I or II

204. * Masked goby (Coryphopterus personatus)—Add to Appendix I or II

205. * Broadstripe goby (Elacatinus prochilos)—Add to Appendix I or II

206. * Lined seahorse (Hippocampus erectus)—Transfer from Appendix II to Appendix I

207. * Slender seahorse (Hippocampus reidi)—Transfer from Appendix II to Appendix I

208. * Thorny seahorse (Hippocampus histrix)—Transfer from Appendix II to Appendix I

209. * Spotted seahorse (Hippocampus kuda)—Transfer from Appendix II to Appendix I

210. Tiger-tail seahorse (Hippocampus comes)—Transfer from Appendix II to Appendix I

Invertebrates

211. Giant armored trapdoor spider (Liphistius malayanus)—Add to Appendix I

212. Tarantulas (Typhochlaena spp. [5 species])—Add to Appendix I [5 species]

213. * Blue coral (Heliopora coerulea)—Transfer from Appendix II to Appendix I

214. * Cactus coral (Pavona cactus)—Transfer from Appendix II to Appendix I

215. * Cactus coral (Pavona decussata)—Transfer from Appendix II to Appendix I

216. * Daisy coral (Alveopora allingi)—Transfer from Appendix II to Appendix I

217. * Daisy coral (Alveopora verrilliana)—Transfer from Appendix II to Appendix I

218. * Disc coral (Turbinaria mesenterina)—Transfer from Appendix II to Appendix I

219. * Disc coral (Turbinaria peltata)—Transfer from Appendix II to Appendix I

220. * Disc coral (Turbinaria reniformis)—Transfer from Appendix II to Appendix I

221. * Galaxy coral (Galaxea astreata)—Transfer from Appendix II to Appendix I

222. * Hawaiian reef coral (Montipora dilatata)—Transfer from Appendix II to Appendix I (Order is listed under Appendix II)

223. * Montipora coral (Montipora angulata)—Transfer from Appendix II to Appendix I

224. * Montipora coral (Montipora calcarea)—Transfer from Appendix II to Appendix I

225. * Montipora coral (Montipora caliculata)—Transfer from Appendix II to Appendix I

226. * Porites coral (Porites pukoensis)—Transfer from Appendix II to Appendix I

227. * Porites coral (Porites horizontalata)—Transfer from Appendix II to Appendix I

228. * Porites coral (Porites nigrescens)—Transfer from Appendix II to Appendix I

229. * Scleractinian coral (Psammocora stellata)—Transfer from Appendix II to Appendix I

230. * Staghorn coral (Acropora acuminata)—Transfer from Appendix II to Appendix I

231. * Staghorn coral (Acropora aspera)—Transfer from Appendix II to Appendix I

232. * Staghorn coral (Acropora horrida)—Transfer from Appendix II to Appendix I

233. * Staghorn coral (Acropora paniculata)—Transfer from Appendix II to Appendix I

234. * Staghorn coral (Acropora polystoma)—Transfer from Appendix II to Appendix I

235. * Staghorn coral (Acropora vaughani)—Transfer from Appendix II to Appendix I

236. * Star coral (Astreopora cucullata)—Transfer from Appendix II to Appendix I

237. Brown sandfish (Holothuria spinifera)—Add to Appendix II

238. Golden sandfish (Holothuria scabra)—Add to Appendix II

239. * White teatfish (Holothuria fuscogilva)—Add to Appendix II

240. * American horseshoe crab (Limulus polyphemus)—Add to Appendix I or II

241. * Black abalone (Haliotis cracherodii)—Add to Appendix I

242. * Florida cone (Conus anabathrum)—Add to Appendix II

243. Wallace's giant bee (Megachile pluto, synonym Chalicodoma pluto)—Add to Appendix I

Request for Information and Comments

We invite information and comments concerning any of the possible CoP19 species proposals discussed above. Please note that we are unlikely to submit any suggested species proposals to amend the CITES Appendices that contained no information (or minimal information) for consideration other than species name and Appendix suggestion. We have limited resources with which to analyze and prepare potential species proposals for consideration by the Conference of the Parties to CITES and are unable to prioritize consideration of these recommendations for preparation of U.S. proposals to CoP19 where no information (or minimal information) has been presented demonstrating the CITES criteria are met for the suggested species proposal. We may still consider these possible proposals if we receive information demonstrating the CITES criteria in Resolution Conf. 9.24 (Rev. CoP17) are met.

We note that in our request for information in our first Federal Register notice for CoP19 (86 FR 12199-12202, March 2, 2021), we encouraged the submission of information on possible species proposals, including if these species are subject to international trade that is, or may become, detrimental to the survival of the species. We outlined the information that should be submitted, and we included information on the CITES criteria for inclusion of species in Appendices I and II and the format for proposals to amend the Appendices (in Resolution Conf. 9.24 (Rev. CoP17) https://cites.org/sites/default/files/document/E-Res-09-24-R17.pdf). We also asked that commenters submit convincing information describing: (1) The status of the species, especially trend information; (2) conservation and management programs for the species, including the effectiveness of enforcement efforts; and (3) the level of international trade as well as domestic trade in the species, especially trend information.

You must submit your information and comments to us no later than the date specified in DATES, above, to ensure that we consider them. We will not consider comments sent by email or fax, or to an address not listed in ADDRESSES. Comments and materials received will be posted for public inspection on https://www.regulations.gov (see ADDRESSES). We will post all comments on https://www.regulations.gov. This generally means that we will post any personal information you provide us. If you submit a comment via https://www.regulations.gov, your entire comment—including any personal identifying information—will be posted on the website. If you submit a hardcopy comment that includes personal identifying information, you may request at the top of your document that we withhold this information from public review. However, we cannot guarantee that we will be able to do so. We will post all hardcopy comments on https://www.regulations.gov. We will make all comments and materials submitted by organizations or businesses, and by individuals identifying themselves as representatives or officials of organizations or businesses, available for public inspection in their entirety.

Future Actions

We expect the CITES Secretariat to provide us with a provisional agenda for CoP19 within the next several months. Once we receive the provisional agenda, we will publish it in a Federal Register notice and provide the Secretariat's website address. We will also provide the provisional agenda on our website, at https://www.fws.gov/program/cites/conference-parties-cites.

The United States must submit any proposals to amend Appendix I or II for discussion at CoP19, to the CITES Secretariat 150 days (i.e., by June 17, 2022) prior to the start of the meeting. In order to meet this deadline and to prepare for CoP19, we have developed a tentative U.S. schedule. We will consider all available information and comments we receive during the comment period for this Federal Register notice as we decide which species proposal items warrant submission by the United States for consideration by the Parties. Approximately 4 months prior to CoP19, we will post on our website an announcement of the species proposals, draft resolutions, draft decisions, and agenda items submitted by the United States to the CITES Secretariat for consideration at CoP19.

Through a series of additional notices and website postings in advance of CoP19, we will inform you about preliminary negotiating positions on resolutions, decisions, and amendments to the Appendices proposed by other Parties for consideration at CoP19. We will also publish an announcement of a public meeting to be held approximately 2 to 3 months prior to CoP19, to receive public input on our positions regarding CoP19 issues. The procedures for developing U.S. documents and negotiating positions for a meeting of the Conference of the Parties to CITES are outlined in 50 CFR 23.87. As noted in paragraph (c) of that section, we may modify or suspend the procedures outlined there if they would interfere with the timely or appropriate development of documents for submission to the CoP and of U.S. negotiating positions.

Authors

The primary author of this notice is Thomas E.J. Leuteritz, Ph.D., Branch Chief, Division of Scientific Authority, U.S. Fish and Wildlife Service.

Authority

The authority for this action is the Endangered Species Act of 1973, as amended (16 U.S.C. 1531 et seq.).

Martha Williams,
Director, U.S. Fish and Wildlife Service.

[FR Doc. 2022-08871 Filed 4-25-22; 8:45 am]

BILLING CODE 4333-15-P